DEPARTMENT OF TRANSPORTATION

Federal Railroad Administration

[Docket Number FRA-2006-25764]

Petition for Extension of Waiver of Compliance

Under part 211 of title 49 Code of Federal Regulations (CFR), this document provides the public notice that on February 24, 2023, Union Pacific Railroad Company (UP) petitioned the Federal Railroad Administration (FRA) for an extension of a waiver of compliance from certain provisions of the Federal railroad safety regulations contained at 49 CFR parts 215 (Railroad Freight Car Safety Standards) and 232 (Brake System Safety Standards for Freight and Other Non-passenger Trains and Equipment; End of Train Devices). The relevant Docket Number is FRA-2006-25764.

Specifically, UP requests a waiver extension from 49 CFR 232.205, Class 1 brake test—initial terminal inspection, and certain provisions of part 215 related to the inspection of trains entering the United States from Mexico at Calexico, California. UP seeks to continue to move trains received in interchange from Mexico approximately 10.1 miles to the facility at El Centro, California, before an initial terminal air brake test is performed. UP notes that the inspection point at El Centro “was designed and built . . . for the sole purpose of inspecting and testing of equipment” passing through the interchange. Further, UP states that the facility “supports inspections and any repair associated activities . . . safer and better than other upstream properties.” Finally, UP states that the relief “avoid[s] . . . excessively blocked crossings” and “alleviates undue additional locomotive emissions from excessive idling times.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications are requested by June 6, 2023. Comments received after that date will be considered if practicable. FRA reserves the right to extend the existing relief subject to subsequent consideration of any comments submitted to the docket.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-07324 Filed 4-6-23; 8:45 am]

BILLING CODE 4910-06-P